ENVIRONMENTAL PROTECTION AGENCY

[FRL-6974-4]

Agency Information Collection Activities: Submission for OMB Review; Comment Request, Transition Program for Equipment Manufacturers

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Transition Program for Equipment Manufacturers, OMB Control Number 2060-0369, expiration date: April 30, 2001. The ICR describes the nature of the information collection and its expected burden and cost; where appropriate, it includes the actual data collection instrument.

DATES: Comments must be submitted on or before June 4, 2001.

ADDRESSES: Send comments, referencing EPA ICR No. 1826.02 and OMB Control No. 2060-0369 to the following addresses: Sandy Farmer, U.S. Environmental Protection Agency, Collection Strategies Division (Mail Code 2822), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at farmer.sandy@epa.gov, or download off the Internet at http://www.epa.gov/icr and refer to EPA ICR No.1826.02. For technical questions about the ICR contact: Nydia Yanira Reyes-Morales, tel.: (202) 564-9264; fax: (202) 565-2057; or e-mail: reyes-morales.nydia@epa.gov.

SUPPLEMENTARY INFORMATION:

Title: Transition Program for Equipment Manufacturers, EPA ICR Number 1826.02, OMB Control Number 2060-0369, expiration date: April 30, 2001. This is a request for extension of a currently approved collection.

Abstract: In August 1998, EPA established emission standards (Tier I standards) for engines under 37 kW, and tightened existing standards (Tier II standards) for engines above 37 kW. These regulations are likely to cause some engine design changes. During the rulemaking process, some equipment manufacturers expressed concerns about delays in notification from engine manufacturers about engine design changes. These design changes can create problems in fitting the engine to the equipment. Consequently, equipment manufacturers would be unable to sell the volume of equipment they planned for, since they would need to redesign their equipment before any products could be sold. In an effort to provide original equipment manufacturers (OEMs) with some flexibility in complying with the regulations, EPA created the Transition Program for Equipment Manufacturers (TPEM). Under the program, OEMs are allowed to use a number of noncompliant engines (uncertified engines rated below 37 kW or Tier I engines rated at or above 37 kW) in their equipment for up to seven years after the effective date of the standards. Participation in the program is voluntary. Participating OEMs and engine manufacturers who provide the noncompliant engines to the OEMs are required to keep records and submit reports of their activities under the program.

The information is collected for compliance purposes by the Engine Programs Group, Certification and Compliance Division, Office of Transportation and Air Quality, Office of Air and Radiation. Confidentiality of proprietary information is granted in accordance with the Freedom of Information Act, EPA regulations at 40 CFR part 2, and class determinations issued by EPA's Office of General Counsel.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on December 29, 2000, (65 FR 83004). No comments were received.

Burden Statement: The annual public reporting and recordkeeping burden for this collection of information is estimated to average 146 hours per equipment manufacturer or post-manufacture marinizer, and 72 hours per engine manufacturer. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Nonroad compression ignition engine and equipment manufacturers and post-manufacture marinizers.

Estimated Number of Respondents: 548.

Frequency of Response: Equipment manufacturers and post-manufacture marinizers: On occasion. Engine manufacturers: Annually.

Estimated Total Annual Hour Burden: 66,647 hours.

Estimated Total Annualized Capital, O&M Cost Burden: $18,611.

Send comments on the Agency's need for this information, the accuracy of the provided burden estimates, and any suggested methods for minimizing respondent burden, including through the use of automated collection techniques to the addresses listed above. Please refer to EPA ICR No.1826.02 and OMB Control No. 2060-0369 in any correspondence.

Dated: April 25, 2001.
Oscar Morales,
Director, Collection Strategies Division.

[FR Doc. 01-11282 Filed 5-3-01; 8:45 am]

BILLING CODE 6560-50-P